DEPARTMENT OF HEALTH AND HUMAN SERVICES

Indian Health Service

Reimbursement Rates for Calendar Year 2010

AGENCY: Indian Health Service, HHS.

ACTION: Notice.

SUMMARY: Notice is given that the Director of Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2010 for Medicare and Medicaid beneficiaries and beneficiaries of other Federal programs. The Medicare Part A inpatient rates are excluded from the table below as they are paid based on the prospective payment system. Since the inpatient rates set forth below do not include all physician services and practitioner services, additional payment may be available to the extent that those services meet applicable requirements. Section 1880 of the Social Security Act authorizes Medicare Part B payment to hospitals and ambulatory care clinics operated by IHS or by an Indian Tribe or Tribal organization.

| Calendar Year 2010
Inpatient Hospital Per Diem Rate (Excludes Physician/Practitioner Services)
Lower 48 States | $2,046
Alaska | 2,246
Outpatient Per Visit Rate (Excluding Medicare)
Lower 48 States | $289
Alaska | 448
Outpatient Per Visit Rate (Medicare)
Lower 48 States | $246
Alaska | 415
Medicare Part B Inpatient Ancillary Per Visit Rate
Lower 48 States | $429
Alaska | 689
Outpatient Surgery Rate (Medicare)
Established Medicare rates for freestanding Ambulatory Surgery Centers
Effective Date for Calendar Year 2010 Rates
Consistent with previous annual rate revisions, the Calendar Year 2010 rates will be effective for services provided on/or after January 1, 2010 to the extent consistent with payment authorities including the applicable Medicaid State plan.

Dated: April 8, 2010.
Yvette Roubideaux,
Director, Indian Health Service.

[FR Doc. 2010-14505 Filed 6-15-10; 8:45 am]

BILLING CODE 4165-16-P